FEDERAL FINANCIAL INSTITUTIONS EXAMINATION COUNCIL

[Docket No. AS11-23]

Consideration of Extenuating Circumstances for Implementation of Modification of Annual National Registry Fee

AGENCY: Appraisal Subcommittee (ASC) of the Federal Financial Institutions Examination Council.

ACTION: The ASC is providing notice to all States that it will consider requests for an extension of the effective date of the modified National Registry fee based on extenuating circumstances.

SUMMARY: Under authority in the Dodd-Frank Wall Street Reform and Consumer Protection Act (the Dodd-Frank Act), the ASC approved a modification of the annual National Registry fee to $40 from the current $25 amount at its meeting on October 13, 2010. The ASC raised the National Registry Fee to support its supervisory activities, including additional authority under the Dodd-Frank Act (see Bulletin 10-1, Modification of Annual National Registry Fee, 75 FR 65629, October 26, 2010).

In the event a State encounters difficulty with implementing the modified National Registry fee by January 1, 2012, the State must notify the ASC no later than October 31, 2011. The ASC will consider a State's request for an extension of the effective date of the modified National Registry fee when extenuating circumstances prevent compliance and the State has acted in good faith to implement any actions necessary for achieving compliance. Extenuating circumstances include, but are not limited to, the following:

• The State was not able to enact necessary legislation or promulgate a rulemaking to implement the modified National Registry fee by January 1, 2012.

• The State could not exercise emergency or temporary authority, if any, to pass legislation or promulgate a rulemaking to implement the modified National Registry fee by January 1, 2012.

• The funds remitted by the State to the ASC to pay the modified National Registry fee would come from a source other than the credentialed appraiser.

States must ensure that any request for an extension contains sufficient detail regarding the State's efforts to achieve compliance to date, and the extenuating circumstances that will prevent compliance.

DATES: Effective Date: Immediately.

FOR FURTHER INFORMATION CONTACT: James R. Park, Executive Director, at (202) 595-7575, or Alice M. Ritter, General Counsel, at (202) 595-7577, via Internet e-mail at Jim@ASC.gov and Alice@ASC.gov, respectively, or by U.S. Mail at Appraisal Subcommittee, 1401 H Street, NW., Suite 760, Washington, DC 20005.

SUPPLEMENTARY INFORMATION: The ASC issued the following Supplement to Bulletin 10-1 Modification of National Registry Fee. This Supplement provides States an opportunity to request an extension of the effective date of the modification in the National Registry Fee based on extenuating circumstances.

August 4, 2011.
Deborah S. Merkle,
Chairman.

[FR Doc. 2011-20300 Filed 8-9-11; 8:45 am]

BILLING CODE 6700-01-P